SOCIAL SECURITY ADMINISTRATION

Agency Information Collection Activities: Proposed Request

The Social Security Administration (SSA) publishes a list of information collection packages that require clearance by the Office of Management and Budget (OMB) in compliance with Pub. L. 104-13, the Paperwork Reduction Act of 1995, effective October 1, 1995. The information collection packages that may be included in this notice are for new information collections, approval of existing information collections, revisions to OMB-approved information collections, and extensions (no change) of OMB-approved information collections.

SSA is soliciting comments on the accuracy of the Agency's burden estimate; the need for the information; its practical utility; ways to enhance its quality, utility, and clarity; and ways to minimize the burden on respondents, including the use of automated collection techniques or other forms of information technology. Written comments and recommendations regarding the information collection(s) should be submitted to the OMB Desk Officer and the SSA Reports Clearance Officer; (OMB), Office of Management and Budget, Attn: Desk Officer for SSA, Fax: 202-395-6974; (SSA), Social Security Administration, DCFAM, Attn: Reports Clearance Officer, Fax: 410-965-6400, E-mail: OPLM.RCO@ssa.gov.

The information collection listed below is pending at SSA and will be submitted to OMB within 60 days from the date of this notice. Therefore, your comments should be submitted to SSA within 60 days from the date of this publication. You can obtain a copy of the collection instrument by calling the SSA Reports Clearance Officer at 410-965-0454 or by writing to the address listed above.

Consent Based Social Security Number Verification Process—0960-NEW

Background

The Social Security Administration (SSA) has provided limited fee based Social Security Number (SSN) verification service to private businesses and other requesters that obtain a valid, signed consent form from the Social Security Number Holder. Based on the consent forms, SSA verifies the Number Holders' SSNs for the requesting party. The Privacy Act of 1974, 5 U.S.C. 552a(b), section 1106 of the Social Security Act, 42 U.S.C. 1306, and SSA regulation at 20 CFR 401.100 establish the legal authority for SSA to provide SSN verifications to third party requesters based on consent. Currently, the consent-based SSN verification service for high volume requesters is a paper-driven, labor-intensive process. In recent years, the demand for SSN verification has grown within the business community. As a result, SSA is developing an Agency strategy to perform fee based SSN verifications with consent in a high volume, centralized process.

The Consent Based Social Security Number Verification (CBSV) Process is the first phase of the Agency's long term strategy to provide the business community with fee based disclosures with consent in high volume. SSA is developing CBSV as a user-friendly, Internet-based application with safeguards that will protect the public's information. In addition to the benefit of providing high volume, centralized SSN verification services to the business community in a secure manner, CBSV also will provide the Agency with inherent cost and workload management benefits.

The CBSV Collection

The CBSV is a fee based automated SSN verification service that can be used by private businesses and other requesting parties who register with SSA to use the system and have obtained valid consent from Number Holders. The purpose of the information collection is to verify for the requesting party that the submitted name and SSN match or do not match the information contained in the SSA records. After completing a registration process and paying the fee, the requesting party can submit a file through the CBSV Internet application containing names of Number Holders who have given valid consent, along with each Number Holder's accompanying SSN and date of birth (if available). The Agency matches the information against SSA's Master File of Social Security Numbers, using SSN, name, date of birth and gender code (if available). The requesting party retrieves the results file from SSA; the results file indicates a match or no match for each SSN submitted.

Under the CBSV process, the requesting party does not submit the consent forms to SSA. SSA will require each requesting party to retain a valid consent form for each SSN verification request for a period of six years. The requesting party is permitted to retain the consent forms in either electronic or paper format.

To ensure the integrity of the CBSV Process, SSA has added a strong audit component that requires audits (called “compliance reviews”) at the discretion of the agency with all audit costs to be borne by the requesting party. These reviews will be conducted by independent certified public accountants (CPAs) to ensure compliance with all the terms and conditions of the parties' agreement with SSA, including a review of the consent forms. This review is performed at the requesting party's place of business to ensure the integrity of the process. In addition, SSA reserves the right to perform unannounced onsite inspections of the entire process including review of the technical systems which maintain the data and transaction records at the requesting party's place of business.

The respondents to the CBSV collection are the participating companies, members of the public who consent to the SSN verification, and CPAs who provide compliance review services.

Type of Request: New information collection.

Respondent | Requirement | Number of respondents per year | Frequency of response | Average of burden per response (minutes) | Annual burden (hours)
Participating Companies | Completion of Registration Process | 150 | 1 | 120 | 300
| Creation of file of SSN requests, data entry, file formatting, and maintaining required documentation and forms | 150 | *251 | 120 | 75,300
| Using the system to upload request file, check status, and download results file | 150 | 251 | 75 | 47,063
| Storing consent forms | 150 | 251 | 60 | 37,650
| Activities related to compliance review | 150 | 1 | 120 | 300
General Public Whose SSNs Will Be Verified | Reading and signing Authorization for the Social Security Administration to Release Social Security Number Verification (Form SSA-89 a.k.a. consent form) | 6,900,000 | 1 | 3 | 345,000
| Responding to CPA re-contact; each CPA contacts 50 people | 7,500 | 1 | 5 | 625
CPAs | Conducting compliance review and preparing written report of findings | 150 | 1 | 4,800 | 12,000
Total |  | 6,907,800 |  |  | 518,238
* Please note there are 251 Federal business days per year (excluding Federal holidays) on which a requesting party could submit a file.

The estimated first year cost burden to be shared by all participating companies for the CBSV service is—$7,154,589.00. This cost figure represents the agency's estimated staff requirements, agency systems development costs, annual account set-up fee, company cost per file submitted and files storage and maintenance costs, and company cost for the services of a CPA to perform compliance reviews.

Dated: December 22, 2005.
Elizabeth A. Davidson,
Reports Clearance Officer, Social Security Administration.

[FR Doc. E5-8095 Filed 12-29-05; 8:45 am]

BILLING CODE 4191-02-P